DEPARTMENT OF ENERGY

Federal Energy Regulatory Commission

[Project No. 2696-052]

Town of Stuyvesant, New York and Albany Engineering Corporation; Notice of Application Accepted for Filing and Soliciting Comments, Motions to Intervene, and Protests

Take notice that the following hydroelectric application has been filed with the Commission and is available for public inspection:

a. Type of Application: Non-Capacity Amendment of License.

b. Project No.: 2696-052.

c. Date Filed: October 30, 2020.

d. Applicant: Town of Stuyvesant, New York and Albany Engineering Corporation.

e. Name of Project: Stuyvesant Falls Hydroelectric Project.

f. Location: The project is located on Kinderhook Creek in Columbia County, New York.

g. Filed Pursuant to: Federal Power Act 16 U.S.C. 791a-825r.

h. Applicant Contact: Ms. Wendy Jo Carey, P.E., Albany Engineering Corporation, 5 Washington Square, Albany, NY 12205; telephone (518) 456-7712 ext 401 and email wendy@albanyengineering.com.

i. FERC Contact: Linda Stewart, (202) 502-8184, linda.stewart@ferc.gov.

j. Deadline for filing comments, motions to intervene, and protests is 30 days from the issuance date of this notice by the Commission.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-2696-052. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, it must also serve a copy of the document on that resource agency.

k. Description of Request: The Town of Stuyvesant, New York and Albany Engineering Corporation (licensees) propose to remove from the project license the unconstructed 120-kilowatt minimum flow turbine-generator unit and associated transmission line as authorized in the April 5, 2013 Order Issuing New License. Article 403 of the license requires the licensees to provide a continuous minimum flow of 65 cubic feet per second (cfs) into the bypassed reach, composed of 15 cfs over the project dam in the form of spill and 50 cfs through the minimum flow turbine to be installed at the project intake. Until the authorized minimum flow turbine is installed, the licensees must release all required minimum flows over the project dam. Because of ongoing property rights issues at the project, the licensees have not been able to construct the authorized minimum flow turbine. Therefore, instead of installing the minimum flow turbine, the licensees propose to continue to release the required 65-cfs minimum flow over the project dam as they currently do.

l. In addition to publishing the full text of this document in the Federal Register, the Commission provides all interested persons an opportunity to view and/or print the contents of this document via the internet through the Commission's Home Page (http://www.ferc.gov) using the eLibrary link. Enter the docket number excluding the last three digits in the docket number field to access the document. At this time, the Commission has suspended access to the Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified deadline date for the particular application.

o. Filing and Service of Responsive Documents: Any filing must (1) bear in all capital letters the title COMMENTS, PROTEST, or MOTION TO INTERVENE as applicable; (2) set forth in the heading the name of the applicant and the project number of the application to which the filing responds; (3) furnish the name, address, and telephone number of the person commenting, protesting, or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: November 19, 2020.
Kimberly D. Bose,
Secretary.

[FR Doc. 2020-26081 Filed 11-24-20; 8:45 am]

BILLING CODE 6717-01-P